DEPARTMENT OF COMMERCE

National Oceanic and Atmospheric Administration

[I.D. 081001E]

Pacific Fishery Management Council; Public Meeting

AGENCY: National Marine Fisheries Service (NMFS), National Oceanic and Atmospheric Administration (NOAA), Commerce.

ACTION: Notice of public meeting.

SUMMARY: The Pacific Fishery Management Council’s (Council) Scientific and Statistical Committee’s Highly Migratory Species (HMS) Subcommittee will hold a public meeting.

DATES: The subcommittee will meet Thursday, September 13, 2001, from 9 a.m. until business for the day is completed.

ADDRESSES: The meeting will be held at the DoubleTree Hotel-Columbia River, Yakima Room, 1401 N Hayden Island Drive, Portland, OR 97217; telephone: 503-283-2111.

Council address: Pacific Fishery Management Council, 7700 NE Ambassador Place, Suite 200, Portland, OR 97220-1384.

FOR FURTHER INFORMATION CONTACT: Mr. Dan Waldeck, Pacific Fishery Management Council, 503-326-6352.

SUPPLEMENTARY INFORMATION: The purpose of the work session will be to review the revised draft HMS fishery management plan and regulatory document, largely focusing on Chapter 3 (e.g., maximum sustainable yield specifications) and regulatory analyses.

Although nonemergency issues not contained in the meeting agenda may come before the subcommittee for discussion, those issues may not be the subject of formal subcommittee action during this meeting. Subcommittee action will be restricted to those issues specifically listed in this notice and any issues arising after publication of this notice that require emergency action under section 305(c) of the Magnuson-Stevens Fishery Conservation and Management Act, provided the public has been notified of the subcommittee's intent to take final action to address the emergency.

Special Accommodations

This meeting is physically accessible to people with disabilities. Requests for sign language interpretation or other auxiliary aids should be directed to Ms. Carolyn Porter at 503-326-6352 at least 5 days prior to the meeting date.

Dated: August 10, 2001.
Richard W. Surdi,
Acting Director, Office of Sustainable Fisheries, National Marine Fisheries Service.

[FR Doc. 01-20825 Filed 8-16-01; 8:45 am]

BILLING CODE 3510-22-S